DEPARTMENT OF TRANSPORTATION

Federal Aviation Administration

14 CFR Part 39

[Docket No. 2000-NM-404-AD]

RIN 2120-AA64

Airworthiness Directives; Boeing Model 757-200 and -200CB Series Airplanes

AGENCY: Federal Aviation Administration, DOT.

ACTION: Notice of proposed rulemaking (NPRM).

SUMMARY: This document proposes the supersedure of an existing airworthiness directive (AD), applicable to certain Boeing Model 757-200 series airplanes, that currently requires modifications to the attachment installation of the forward lavatory. This action would add airplanes to the applicability of the existing AD. The actions specified by the proposed AD are intended to prevent failure of the attachment installation of the forward lavatory during an emergency landing, which could result in injury to the crew and passengers. This action is intended to address the identified unsafe condition.

DATES: Comments must be received by February 5, 2004.

ADDRESSES: Submit comments in triplicate to the Federal Aviation Administration (FAA), Transport Airplane Directorate, ANM-114, Attention: Rules Docket No. 2000-NM-404-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2000-NM-404-AD” in the subject line and need not be submitted in triplicate. Comments sent via the Internet as attached electronic files must be formatted in Microsoft Word 97 for Windows or ASCII text.

The service information referenced in the proposed rule may be obtained from Boeing Commercial Airplane Group, P.O. Box 3707, Seattle, Washington 98124-2207. This information may be examined at the FAA, Transport Airplane Directorate, 1601 Lind Avenue, SW., Renton, Washington.

FOR FURTHER INFORMATION CONTACT: David Crotty, Aerospace Engineer, Cabin Safety and Environmental Systems Branch, ANM-150S, FAA, Transport Airplane Directorate, Seattle Aircraft Certification Office, 1601 Lind Avenue, SW., Renton, Washington 98055-4056; telephone (425) 917-6422; fax (425) 917-6590.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2000-NM-404-AD.” The postcard will be date stamped and returned to the commenter.

Availability of NPRMs

Any person may obtain a copy of this NPRM by submitting a request to the FAA, Transport Airplane Directorate, ANM-114, Attention: Rules Docket No. 2000-NM-404-AD, 1601 Lind Avenue, SW., Renton, Washington 98055-4056.

Discussion

On April 19, 1999, the FAA issued AD 99-09-13, amendment 39-11146 (64 FR 20146, April 26, 1999), applicable to certain Boeing Model 757-200 series airplanes, to require modifications to the attachment installation of the forward lavatory. That action was prompted by a stress analysis report indicating that the forward lavatory could break free from the upper and/or lower attachments during an emergency landing. The requirements of that AD are intended to prevent failure of the attachment installation of the forward lavatory during an emergency landing, which could result in injury to the crew and passengers.

Actions Since Issuance of Previous Rule

Since the issuance of that AD, the manufacturer has issued Boeing Special Attention Service Bulletin 757-25-0181, Revision 1, dated November 21, 2000. The modifications described in this revision are the same as that described in the original service bulletin, which was referenced in AD 99-09-13 as the appropriate source of service information for accomplishing the required actions in that AD. However, Revision 1 of the service bulletin adds additional passenger airplanes to the effectivity listing that are subject to the identified unsafe condition.

Explanation of Relevant Service Information

The FAA has reviewed and approved Boeing Special Attention Service Bulletin 757-25-0181, Revision 1, dated November 21, 2000, which describes procedures for installation of a doubler to the upper attachment installation of the forward lavatory on passenger airplanes. Accomplishment of the actions specified in the service bulletin is intended to adequately address the identified unsafe condition.

Explanation of Requirements of Proposed Rule

Since an unsafe condition has been identified that is likely to exist or develop on other products of this same type design, the proposed AD would supersede AD 99-09-13 to continue to require modifications to the attachment installation of the forward lavatory. The proposed AD also would expand the applicability of the existing AD to include additional airplanes. The actions would be required to be accomplished in accordance with the service bulletin described previously.

Cost Impact

There are approximately 694 airplanes of the affected design in the worldwide fleet. The FAA estimates that 355 airplanes of U.S. registry would be affected by this proposed AD.

It would take approximately 4 work hours per airplane to accomplish the proposed modification, at an average labor rate of $65 per work hour. Required parts would cost approximately $100 per airplane. Based on these figures, the cost impact of the proposed modification on U.S. operators is estimated to be $127,800, or $360 per airplane.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions. The manufacturer may cover the cost of replacement parts associated with this proposed AD, subject to warranty conditions. Manufacturer warranty remedies may also be available for labor costs associated with this proposed AD. As a result, the costs attributable to the proposed AD may be less than stated above.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) Is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11146 (64 FR 20146, April 26, 1999) and by adding a new airworthiness directive (AD), to read as follows:

Boeing: Docket 2000-NM-404-AD. Supersedes AD 99-09-13, Amendment 39-11146.

Applicability: Model 757-200 and -200CB series airplanes; as listed in Boeing Special Attention Service Bulletin 757-25-0181, Revision 1, dated November 21, 2000; and as listed in Boeing Alert Service Bulletin 757-25A0187, dated September 18, 1997; certificated in any category.

Compliance: Required as indicated, unless accomplished previously.

To prevent failure of the attachment installation of the forward lavatory during an emergency landing, which could result in injury to the crew and passengers, accomplish the following:

Restatement of Requirements of AD 99-09-13

(a) For passenger airplanes identified in Boeing Service Bulletin 757-25-0181, dated June 26, 1997: Within 24 months or 3,000 flight cycles after June 1, 1999 (the effective date of AD 99-09-13, amendment 39-11146), whichever occurs first, install a doubler to the upper attachment installation of the forward lavatory, in accordance with Boeing Service Bulletin 757-25-0181, dated June 26, 1997.

(b) For freighter airplanes identified in Boeing Alert Service Bulletin 757-25A0187, dated September 18, 1997: Within 24 months or 3,000 flight cycles after June 1, 1999, whichever occurs first, install floor panel inserts, a retention fitting assembly, and a doubler assembly to the lower attachment installation of the forward lavatory, in accordance with Boeing Alert Service Bulletin 757-25A0187, dated September 18, 1997.

New Requirements of This AD

(c) For passenger airplanes identified in Boeing Special Attention Service Bulletin 757-25-0181, Revision 1, dated November 21, 2000, other than those identified in paragraph (a) of this AD: Within 24 months after the effective date of this AD, install a doubler to the upper attachment installation of the forward lavatory, in accordance with the Work Instructions of Boeing Special Attention Service Bulletin 757-25-0181, Revision 1, dated November 21, 2000.

Parts Installation

(d) As of the effective date of this AD, no person shall install a floor panel, part number 141N5410-12 or 141N5410-28, on any airplane.

Note 1: Floor panels having part numbers 141N5410-12 and 141N5410-28 are only installed on freighter airplanes and are not used on passenger airplanes.

Installations Accomplished Per Previous Issues of Service Bulletin

(e) Installations accomplished before the effective date of this AD per the original issue of Boeing Special Attention Service Bulletin 757-25-0181, dated June 26, 1997, are considered acceptable for compliance with the actions specified in paragraph (c) of this AD.

Alternative Methods of Compliance

(f)(1) In accordance with 14 CFR 39.19, the Manager, Seattle Aircraft Certification Office, FAA, is authorized to approve alternative methods of compliance (AMOCs) for this AD.

(2) Alternative methods of compliance, approved previously per AD 99-09-13, amendment 39-11146, that provide for the installation of an oversize doubler to the upper attachment installation of the forward lavatory, are approved as alternative methods of compliance with this AD.

Issued in Renton, Washington, on December 12, 2003.
Kevin M. Mullin,
Acting Manager, Transport Airplane Directorate, Aircraft Certification Service.

[FR Doc. 03-31445 Filed 12-19-03; 8:45 am]

BILLING CODE 4910-13-P